Title 3—

The President

Proclamation 7495 of November 9, 2001

Chronic Obstructive Pulmonary Disease Month, 2001

By the President of the United States of America

A Proclamation

Approximately 16 million American adults suffer from a devastating disease for which there is no cure. The disease is called Chronic Obstructive Pulmonary Disease (COPD), and it is a growing problem in this country and throughout the world. COPD claims more than 100,000 lives per year, drains the American economy of an estimated $30.4 billion each year, and is the fourth leading cause of death in the United States today, exceeded only by heart disease, cancer, and stroke.

COPD is a medical term for a group of respiratory conditions that includes emphysema and chronic bronchitis. COPD results in gradual, irreversible damage to the lungs. Since the symptoms progress gradually, COPD patients may not even realize in the early stages that they have the disease. Over the years, as the lung damage continues, breathing becomes increasingly difficult.

Although some patients have an inherited version of the disease, smoking is the most common cause of COPD. Exposure to toxic substances in the environment such as industrial pollutants, aerosol sprays, nontobacco smoke, and internal combustion engine exhaust may also aggravate or contribute to COPD. While our ultimate goal is to prevent this often-fatal disease, we now need better treatments. Chronic Obstructive Pulmonary Disease Month offers us the opportunity to increase our knowledge of this disease and to consider what we can do to reduce its occurrence.

NOW, THEREFORE, I, GEORGE W. BUSH, President of the United States of America, by virtue of the authority vested in me by the Constitution and laws of the United States, do hereby proclaim November 2001, as Chronic Obstructive Pulmonary Disease Month. I call upon the people of the United States to observe this month with appropriate programs, ceremonies, and activities to raise awareness of COPD and its impact on communities and to improve the quality of life of those who suffer from the disease.

IN WITNESS WHEREOF, I have hereunto set my hand this ninth day of November, in the year of our Lord two thousand one, and of the Independence of the United States of America the two hundred and twenty-sixth.

B

[FR Doc. 01-28800

Filed 11-14-01; 9:34 am]

Billing code 3195-01-P